DEPARTMENT OF TRANSPORTATION

Federal Aviation Administration

Proposed Advisory Circular 23-13A, Fatigue, Fail-Safe, and Damage Tolerance Evaluation of Metallic Structure for Part 23 Airplanes

AGENCY: Federal Aviation Administration (FAA), DOT.

ACTION: Extension of comment period.

SUMMARY: This notice announces the extension of the comment period for the notice of availability of and request for comments on a proposed advisory circular, Advisory Circular (AC) 23-13A, Fatigue, Fail-Safe, and Damage Tolerance Evaluation of Metallic Structure for Part 23 Airplanes. The FAA is extending the comment period to allow companies and individuals adequate time to complete their comments to the proposed AC.

DATES: The comment period is being extended from June 24, 2005 to July 22, 2005.

ADDRESSES: If possible, please send your comments electronically to Michael.Reyer@faa.gov. Otherwise, send all comments on the proposed AC to: Federal Aviation Administration, Attention: Mr. Mike Reyer, ACE-111, 901 Locust, Kansas City, MO 64106. Comments may be inspected at the above address between 7:30 and 4 p.m. weekdays, except Federal holidays. All comments should contain the name and telephone number of the individual or company making the comment, the paragraph and page number that the comment references, the reason for comment, and the recommended resolution.

FOR FURTHER INFORMATION CONTACT: Mr. Mike Reyer, Standards Office, Small Airplane Directorate, Aircraft Certification Service, Kansas City, Missouri 64106, telephone (816) 329-4131, fax (816) 329-4090.

SUPPLEMENTARY INFORMATION: The FAA issued a notice of availability and request for comments on the proposed AC on April 15, 2005. The FAA is extending the comment period to give all interested persons the opportunity to comment on the proposed criteria.

Comments Invited

Interested people are invited to comment on the proposed AC by submitting such written data, views, or arguments as they may desire. Comments should identify AC number 23-13A. Send comments, in duplicate, to the address specified above. All communications received on or before the closing date for comments will be considered before issuing the final AC. The proposed AC can be found and downloaded from the Internet at http://www.faa.gov/certification/aircraft in a few days. A paper copy of the proposed AC may be obtained by contacting the person named above under the caption FOR FURTHER INFORMATION CONTACT.

Issued in Kansas City, Missouri on July 5, 2005.
David R. Showers,
Acting Manager, Small Airplane Directorate, Aircraft Certification Service.

[FR Doc. 05-13663 Filed 7-11-05; 8:45 am]

BILLING CODE 4910-13-P